INTERNATIONAL TRADE COMMISSION

[Investigation No. 731-TA-895 (Third Review)]

Pure Granular Magnesium From China; Determination

On the basis of the record ¹ developed in the subject five-year review, the United States International Trade Commission (“Commission”) determines, pursuant to the Tariff Act of 1930 (“the Act”), that revocation of the antidumping duty order on pure granular magnesium from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on September 1, 2017 (82 FR 41651) and determined on December 5, 2017 that it would conduct an expedited review (83 FR 4269, January 30, 2018).

The Commission made this determination pursuant to section 751(c) of the Act (19 U.S.C. 1675(c)). It completed and filed its determination in this review on February 27, 2017. The views of the Commission are contained in USITC Publication 4761 (February 2018), entitled Pure Granular Magnesium from China: Investigation No. 731-TA-895 (Third Review).

By order of the Commission.
Issued: February 27, 2018.
Lisa R. Barton,
Secretary to the Commission.

[FR Doc. 2018-04332 Filed 3-2-18; 8:45 am]

BILLING CODE 7020-02-P